DEPARTMENT OF TRANSPORTATION

Federal Transit Administration

Major Capital Investment Program—New Starts

AGENCY: Federal Transit Administration (FTA), DOT.

ACTION: Notice of discretionary selection of New Starts projects for Funding.

SUMMARY: The U.S. Department of Transportation's (DOT) Federal Transit Administration (FTA) announces the discretionary selection of projects for funding using unallocated Major Capital Investment (New Starts) program funds. The funds accelerate federal payments for new fixed guideway projects that are currently under construction.

FOR FURTHER INFORMATION CONTACT: For general program information on the New Starts, contact Eric Hu, Office of Program Management, at (202) 366-0870, e-mail: Eric.Hu@dot.gov, for program specific issues, contact the appropriate FTA regional office (See Appendix A).

SUPPLEMENTARY INFORMATION: The New Starts discretionary funds will advance Full Funding Grant Agreements payments and advance the Federal Government's commitments to the selected projects. The funding will give a well-timed boost to communities that have made important investments in their transportation infrastructure. Furthermore, the advance payments will save financial costs for the local transit project sponsors and free up local funds for other transit projects that will further enhance mobility and livability in their communities. A total of $207,403,999 is available for FTA's discretionary allocation under the New Starts program. Of the total made available, $182,404,000 will fund seven transit projects already under construction; $24,999,999 restores funding for the Oakland Airport Connector. Projects selected for funding are shown in Table 1, which accompanies this announcement. Project identification numbers are assigned to each project and must be used in the Transportation Electronic Award Management grant application. Pre-award authority is granted as of December 27, 2010. The funding announced in this notice will be available for obligation until September 30, 2013.

Issued in Washington, DC, this 23rd day of March, 2011.
Peter Rogoff,
Administrator.

Appendix A

FTA Regional and Metropolitan Offices
Mary E. Mello, Regional Administrator, Region 1-Boston, Kendall Square, 55 Broadway, Suite 920, Cambridge, MA 02142-1093, Tel. 617-494-2055. | Robert C. Patrick, Regional Administrator, Region 6-Ft. Worth, 819 Taylor Street, Room 8A36, Ft. Worth, TX 76102, Tel. 817-978-0550.
States served: Connecticut, Maine, Massachusetts, New Hampshire, Rhode Island, and Vermont. | States served: Arkansas, Louisiana, Oklahoma, New Mexico and Texas.
Brigid Hynes-Cherin, Regional Administrator, Region 2-New York, One Bowling Green, Room 429, New York, NY 10004-1415, Tel. 212-668-2170. | Mokhtee Ahmad, Regional Administrator, Region 7-Kansas City, MO, 901 Locust Street, Room 404, Kansas City, MO 64106, Tel. 816-329-3920.
States served: New Jersey, New York. | States served: Iowa, Kansas, Missouri, and Nebraska.
New York Metropolitan Office, Region 2-New York, One Bowling Green, Room 428, New York, NY 10004-1415, Tel. 212-668-2202.
Letitia Thompson, Regional Administrator, Region 3-Philadelphia, 1760 Market Street, Suite 500, Philadelphia, PA 19103-4124, Tel. 215-656-7100. | Terry Rosapep, Regional Administrator, Region 8-Denver, 12300 West Dakota Ave., Suite 310, Lakewood, CO 80228-2583, Tel. 720-963-3300.
States served: Delaware, Maryland, Pennsylvania, Virginia, West Virginia, and District of Columbia. Philadelphia Metropolitan Office, Region 3-Philadelphia, 1760 Market Street, Suite 500, Philadelphia, PA 19103-4124, Tel. 215-656-7070. | States served: Colorado, Montana, North Dakota, South Dakota, Utah, and Wyoming.
Washington, DC Metropolitan Office, 1990 K Street, NW., Room 510, Washington, DC 20006, Tel. 202-219-3562.
Yvette Taylor, Regional Administrator, Region 4-Atlanta, 230 Peachtree Street, NW. Suite 800, Atlanta, GA 30303, Tel. 404-865-5600. | Leslie T. Rogers, Regional Administrator, Region 9-San Francisco, 201 Mission Street, Room 1650, San Francisco, CA 94105-1926, Tel. 415-744-3133.
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office, Region 9-Los Angeles, 888 S. Figueroa Street, Suite 1850, Los Angeles, CA 90017-1850, Tel. 213-202-3952.
Marisol Simon, Regional Administrator, Region 5-Chicago, 200 West Adams Street, Suite 320, Chicago, IL 60606, Tel. 312-353-2789. | Rick Krochalis. Regional Administrator. Region 10-Seattle. Jackson Federal Building. 915 Second Avenue, Suite 3142. Seattle, WA 98174-1002. Tel. 206-220-7954.
States served: Illinois, Indiana, Michigan, Minnesota, Ohio, and Wisconsin. | States served: Alaska, Idaho, Oregon, and Washington.
Chicago Metropolitan Office, Region 5-Chicago, 200 West Adams Street, Suite 320, Chicago, IL 60606, Tel. 312-353-2789.

[FR Doc. 2011-7304 Filed 3-29-11; 8:45 am]

BILLING CODE P